DEPARTMENT OF AGRICULTURE

Forest Service

Lynn Canal Icy-Strait Resource Advisory Committee; Meeting

AGENCY: Forest Service, USDA.

ACTION: Notice of meeting.

SUMMARY: The Lynn Canal-Icy Strait (LCIS) Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act. The committee also makes recommendations on recreation fee proposals for sites on the Tongass National Forest within boroughs associated with the LCIS RAC, consistent with the Federal Lands Recreation Enhancement Act. General RAC information can be found at the following website: http://www.fs.usda.gov/main/pts/specialprojects/racweb.

DATES: The meeting will be held on Wednesday, June 16, 2021 from 1:00 p.m.-4:00 p.m. Alaska Daylight Time. All RAC meetings are subject to cancellation. For status of the meeting prior to attendance, please contact Robin Hasselquist by phone at 907-789-6212 or email at robin.hasselquist@usda.gov.

ADDRESSES: The meeting will be held virtually via telephone and/or videoconference. The phone call-in number is 1-202-650-0123, Phone Conference ID: 771 850 094#. To have the video conference link emailed to you, please contact Robin Hasselquist by phone at 907-789-6212 or email at robin.hasselquist@usda.gov by June 4, 2021.

Written comments may be submitted as described under SUPPLEMENTARY INFORMATION. All comments, including names and addresses when provided, are placed in the record and are available for public inspection and copying. The public may inspect comments received upon request.

FOR FURTHER INFORMATION CONTACT: Robin Hasselquist, RAC Coordinator, by phone at 907-789-6212 or email at robin.hasselquist@usda.gov.

Individuals who use telecommunication devices for the hearing-impaired (TDD) may call the Federal Information Relay Service (FIRS) at 1-800-877-8339 between 8:00 a.m. and 8:00 p.m., Eastern Daylight Time, Monday through Friday.

SUPPLEMENTARY INFORMATION: The purpose of the meeting is to:

1. Review/Approve meeting minutes;

2. Review current budget;

3. Hear from Title II project proponents and discuss project proposals;

4. Make funding reccomendations on Tittle II projects; and

5. Schedule the next meeting.

The meeting is open to the public. The agenda will include time for people to make oral statements of three minutes or less. Individuals wishing to make an oral statement should request in writing, by Friday, June 4, 2021, to be scheduled on the agenda. Anyone who would like to bring related matters to the attention of the committee may file written statements with the committee staff before or after the meeting. Written comments and requests for time for oral comments must be sent to Robin Hasselquist, 8510 Mendenhall Loop Road, Juneau, Alaska 99801, or by email to robin.hasselquist@usda.gov.

Meeting Accommodations: If you are a person requiring reasonable accommodation, please make requests in advance for sign language interpreting, assistive listening devices, or other reasonable accommodation. For access to the proceedings, please contact Robin Hasselquist. All reasonable accommodation requests are managed on a case-by-case basis.

Cikena Reid,
USDA Committee Management Officer.

[FR Doc. 2021-09457 Filed 5-4-21; 8:45 am]

BILLING CODE 3411-15-P